DEPARTMENT OF AGRICULTURE

Animal and Plant Health Inspection Service

[Docket No. 05-069-1]

Public Meeting; National Animal Identification System

AGENCY: Animal and Plant Health Inspection Service, USDA.

ACTION: Notice of public meeting.

SUMMARY: The Animal and Plant Health Inspection Service will hold a public meeting concerning the animal movement tracking database component for the National Animal Identification System. The purpose of the meeting is to initiate dialogue about this initiative with industry stakeholders, including representatives of national organizations that represent livestock and poultry production sectors, livestock producers, and other interested individuals. This notice provides information on the discussion topics as well as the date, time, and place of the meeting.

DATES: The meeting will be held on Wednesday, October 12, 2005, from 8:30 a.m. to 3 p.m.

ADDRESSES: The meeting will be held at the Radisson Hotel & Suites Kansas City—City Center, 1301 Wyandotte Street, Kansas City, MO.

FOR FURTHER INFORMATION CONTACT: Mr. Neil Hammerschmidt, Coordinator, National Animal Identification System, VS, APHIS, 4700 River Road Unit 200, Riverdale, MD 20737; phone (301) 734-0739, fax (301) 734-7963, or e-mail: Neil.E.Hammerschmidt @aphis.usda.gov.

SUPPLEMENTARY INFORMATION: The National Animal Identification System (NAIS) has made steady progress in 2005. Over 109,000 premises have been registered in the NAIS, setting the foundation for the animal identification components. The Animal and Plant Health Inspection Service (APHIS) of the U.S. Department of Agriculture (USDA) has reviewed over 600 comments on the draft strategic plan and draft program standards. There is significant support from the industry to move forward as proposed in the draft strategic plan, in particular, to implement a phased-in program in the proposed time frame. There was also support, especially from cattle producers, for having the animal tracking database maintained outside the Federal Government.

After considerable discussion regarding the design and administration of the animal tracking database, we have concluded that having multiple industry program databases “feed” a centralized, privately held repository with all animal movement data can be achieved and can meet the needs of our animal health programs.

To initiate the necessary dialogue with the industry, we will hold a public meeting on October 12, 2005. At the meeting, we will discuss the relationship between the industry and USDA that would have to be in place for such a system to function effectively. Among the options to be discussed is the formation of a new entity representing all sectors of the production industry to lead the effort to develop, and provide ongoing oversight of, a private animal tracking data repository. USDA and State representatives will define the system specifications and user requirements that the animal tracking database must meet to support ongoing animal health surveillance programs and traceback investigations.

Done in Washington, DC, this 15th day of September 2005.
Kevin Shea,
Acting Administrator, Animal and Plant Health Inspection Service.

[FR Doc. 05-18760 Filed 9-19-05; 8:45 am]

BILLING CODE 3410-34-P